DEPARTMENT OF ENERGY

Federal Energy Regulatory Commission

Combined Notice of Filings #1

Take notice that the Commission received the following electric rate filings:

Docket Numbers: ER10-1851-007; ER10-1852-015; ER10-1930-007; ER10-1931-008; ER10-1966-008; ER10-1971-034; ER10-1976-008; ER10-1985-008; ER11-4462-025; ER12-2225-007; ER12-2226-007; ER14-2138-004; ER15-2101-004; ER15-2582-002.

Applicants: ESI Vansycle Partners, L.P., Florida Power & Light Company, FPL Energy Stateline II, Inc., FPL Energy Vansycle L.L.C., Logan Wind Energy LLC, NextEra Energy Power Marketing, LLC, Northern Colorado Wind Energy, LLC, Peetz Table Wind Energy, LLC, NEPM II, LLC, Limon Wind II, LLC, Limon Wind, LLC, Limon Wind III, LLC, Golden West Power Partners, LLC, Carousel Wind Farm, LLC.

Description: Supplement to December 30, 3016 Triennial Market Power Update for the Northwest Region of NextEra Companies.

Filed Date: 3/24/17.

Accession Number: 20170324-5175.

Comments Due: 5 p.m. ET 4/14/17.

Docket Numbers: ER17-989-000; ER17-990-000; ER17-991-000; ER17-992-000; ER17-993-000.

Applicants: Chambersburg Energy, LLC, Gans Energy, LLC, Hunlock Energy, LLC, Springdale Energy, LLC, Bath County Energy, LLC.

Description: Supplement to February 17, 2017 Chambersburg Energy, LLC, et al. tariff filings.

Filed Date: 3/24/17.

Accession Number: 20170324-5177.

Comments Due: 5 p.m. ET 4/7/17.

Docket Numbers: ER17-1287-000.

Applicants: Pacific Gas and Electric Company.

Description: § 205(d) Rate Filing: Three E&P Agreements: Little Bear Solar 3, Little Bear Solar 4 and Pacific Wind to be effective 3/24/2017.

Filed Date: 3/23/17.

Accession Number: 20170323-5002.

Comments Due: 5 p.m. ET 4/13/17.

Docket Numbers: ER17-1289-000.

Applicants: Midcontinent Independent System Operator, Inc.

Description: § 205(d) Rate Filing: 2017-03-23 SA 2468 Ameren-Sugar Creek GIA Termination (J034) to be effective 4/25/2017.

Filed Date: 3/24/17.

Accession Number: 20170324-5289.

Comments Due: 5 p.m. ET 4/14/17.

Docket Numbers: ER17-1290-000.

Applicants: Midcontinent Independent System Operator, Inc.

Description: § 205(d) Rate Filing: 2017-03-24_SA 3007 ATC-Upper Michigan E&P Agreement (J703) to be effective 3/17/2017.

Filed Date: 3/24/17.

Accession Number: 20170324-5291.

Comments Due: 5 p.m. ET 4/14/17

Docket Numbers: ER17-1291-000.

Applicants: Midcontinent Independent System Operator, Inc.

Description: § 205(d) Rate Filing: 2017-03-24_SA 3008 ATC-Upper Michigan E&P Agreement (J704) to be effective 3/17/2017.

Filed Date: 3/24/17.

Accession Number: 20170324-5292.

Comments Due: 5 p.m. ET 4/14/17.

Docket Numbers: ER17-1292-000.

Applicants: Pennsylvania Electric Company, PJM Interconnection, L.L.C.

Description: § 205(d) Rate Filing: Penelec submits Original CA, Service Agreement No. 4664, with Borough of Berlin to be effective 2/22/2017.

Filed Date: 3/24/17.

Accession Number: 20170324-5293.

Comments Due: 5 p.m. ET 4/14/17.

Docket Numbers: ER17-1293-000.

Applicants: Boulder Solar Power, LLC.

Description: § 205(d) Rate Filing: Ministerial Amendment of Boulder Solar Market-Based Rate Tariff to be effective 3/25/2017.

Filed Date: 3/24/17.

Accession Number: 20170324-5295.

Comments Due: 5 p.m. ET 4/14/17.

Docket Numbers: ER17-1294-000.

Applicants: Mankato Energy Center, LLC.

Description: § 205(d) Rate Filing: Ministerial Amendment to Mankato Market-Based Rate Tariff to be effective 3/25/2017.

Filed Date: 3/24/17.

Accession Number: 20170324-5296.

Comments Due: 5 p.m. ET 4/14/17.

Docket Numbers: ER17-1295-000.

Applicants: PJM Interconnection, L.L.C.

Description: § 205(d) Rate Filing: Queue Position AA2-088, Original Service Agreement No. 4658 to be effective 2/22/2017.

Filed Date: 3/24/17.

Accession Number: 20170324-5297.

Comments Due: 5 p.m. ET 4/14/17.

Docket Numbers: ER17-1296-000.

Applicants: ISO New England Inc., Green Mountain Power Corporation.

Description: § 205(d) Rate Filing: ISO-NE & GMP Original Service Agreement No. SGIA-ISONE/GMP-17-01 under Sched. 23 to be effective 3/8/2017.

Filed Date: 3/24/17.

Accession Number: 20170324-5298.

Comments Due: 5 p.m. ET 4/14/17.

Docket Numbers: ER17-1297-000.

Applicants: R. R. Donnelley & Sons Company.

Description: Tariff Cancellation: RR Donnelley MBR Tariff Cancellation to be effective 3/31/2017.

Filed Date: 3/24/17.

Accession Number: 20170324-5300.

Comments Due: 5 p.m. ET 4/14/17.

Docket Numbers: ER17-1298-000.

Applicants: PJM Interconnection, L.L.C.

Description: Tariff Cancellation: Notice of Cancellation of Original Service Agreement No. 4282, Queue No. AA1-100 to be effective 2/27/2017.

Filed Date: 3/24/17.

Accession Number: 20170324-5301.

Comments Due: 5 p.m. ET 4/14/17.

Docket Numbers: ER17-1299-000.

Applicants: Southern California Edison Company.

Description: Tariff Cancellation: Notice of Cancellation SGIA and Distribution Service Agmt Joshua Tree Solar Farm to be effective 3/11/2017.

Filed Date: 3/24/17

Accession Number: 20170324-5302.

Comments Due: 5 p.m. ET 4/14/17.

Docket Numbers: ER17-1300-000.

Applicants: California Independent System Operator Corporation.

Description: § 205(d) Rate Filing: 2017-03-24 EIM Implementation Agreement with BANC to be effective 6/1/2017.

Filed Date: 3/24/17.

Accession Number: 20170324-5304.

Comments Due: 5 p.m. ET 4/14/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 24, 2017.
Kimberly D. Bose,
Secretary.

[FR Doc. 2017-06424 Filed 3-31-17; 8:45 am]

BILLING CODE 6717-01-P